DEPARTMENT OF HEALTH AND HUMAN SERVICES

Office of the Secretary

Center for Faith and Opportunity Initiatives (The Partnership Center); Statement of Organization, Functions, and Delegations of Authority

37814 Part A, Office of the Secretary, Statement of Organization, Functions, and Delegations of Authority for the Department of Health and Human Services (HHS), as last amended at 75 FR 20364-5, dated April 19, 2010, and Chapter AA, Immediate Office of the Secretary, as last amended at 75 FR 20364-5, dated April 19, 2010, is being amended to update Chapter AW, “Center for Faith and Opportunity Initiatives (The Partnership Center),” in the Office of the Secretary. The changes are as follows:

A. Under Part A, Chapter AA, Section AA.10 Organization, insert the following: “Center for Faith and Opportunity Initiatives (The Partnership Center) (AW).”

B. Under Part A, update Chapter AW, “Center for Faith and Opportunity Initiatives (The Partnership Center)” to read as follows:

Chapter AW, Center for Faith and Opportunity Initiatives (The Partnership Center).

AW.00 Mission

AW.10 Organization

AW.20 Functions

AW.00 Mission. The Center for Faith and Opportunity Initiatives (The Partnership Center) coordinates the Department of Health and Human Services' (HHS') efforts to support partnerships between HHS and faith and community-based nonprofit organizations in the health care and human services sectors in order to better serve people and communities.

AW.10 Organization. The Partnership Center is headed by a Director, appointed by the Secretary in consultation with the White House Faith and Opportunity Initiative, who reports to the Secretary and serves as the Secretary's principal advisor on HHS' activities relating to faith-based and community partnerships.

AW.20 Functions. The Partnership Center engages and communicates with national, regional, and local faith and community-based organizations and service providers, ensuring that local institutions that hold community trust and deliver essential services have up-to-date information regarding health and human service activities and resources in their area. The Partnership Center also works to enable community and faith-based organizations to collaborate with the government, through both non-fiduciary and fiduciary partnerships, to achieve the strategic priorities of HHS and the President.

Scott W. Rowell,
Assistant Secretary for Administration.

[FR Doc. 2019-01038 Filed 2-4-19; 8:45 am]

BILLING CODE 4150-24-P